DEPARTMENT OF COMMERCE

International Trade Administration

North Carolina State University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 04-015. Applicant: North Carolina State University, Raleigh, NC 27695-7212. Instrument: Cryogen-Free Superconductive Magnet System. Manufacturer: Cryogen Limited, United Kingdom. Intended Use: See notice at 69 FR 51812, August 23, 2004. Comments: None received. Decision: Approved. No instrument of equivalent scientific value to the foreign instrument, for such purposes as it is intended to be used, is being manufactured in the United States. Reasons: The foreign instrument provides a magnetic field of 12 Tesla, without cryogen cooling, in order to achieve highly polarized spin states for study of spin polarization phenomena in novel magnetic materials and to exceed the local zero-field splitting field of single-molecule magnets to attain essentially pure quantum state for an ensemble of quantum dots in quantum computing experiments.

The Department of Energy advises that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. E4-2316 Filed 9-21-04; 8:45 am]

BILLING CODE 3510-DS-P